DEPARTMENT OF ENERGY

Federal Energy Regulatory Commission

[Docket No. ER00-3175-000, et al.]

Jersey Central Power & Light Company, et al.; Electric Rate and Corporate Regulation Filings

July 21, 2000.

Take notice that the following filings have been made with the Commission:

1. Jersey Central Power & Light Company, Metropolitan Edison Company and Pennsylvania Electric Company

[Docket No. ER00-3175-000]

Take notice that on July 18, 2000, Jersey Central Power & Light Company, Metropolitan Edison Company and Pennsylvania Electric Company (individually doing business as GPU Energy), tendered for filing a Notice of Cancellation of the Service Agreement between GPU Service Corporation and Duke/Louis Dreyfus L.L.C., FERC Electric Tariff, Original Volume No. 1, Service Agreement No. 47.

GPU Energy requests that cancellation be effective September 18, 2000.

Comment date: August 8, 2000, in accordance with Standard Paragraph E at the end of this notice.

2. Jersey Central Power & Light Company, Metropolitan Edison Company and Pennsylvania Electric Company

[Docket No. ER00-3176-000]

Take notice that on July 18, 2000, Jersey Central Power & Light Company, Metropolitan Edison Company and Pennsylvania Electric Company (individually doing business as GPU Energy), tendered for filing a Notice of Cancellation of the Service Agreement between GPU Energy and Engage Energy US, L.P., FERC Electric Tariff, Second Revised Volume No. 1, Service Agreement No. 94.

GPU Energy requests that cancellation be effective September 18, 2000.

Comment date: August 8, 2000, in accordance with Standard Paragraph E at the end of this notice.

3. Jersey Central Power & Light Company, Metropolitan Edison Company and Pennsylvania Electric Company

[Docket No. ER00-3177-000]

Take notice that on July 18, 2000, Jersey Central Power & Light Company, Metropolitan Edison Company and Pennsylvania Electric Company (individually doing business as GPU Energy), tendered for filing a Notice of Cancellation of the Service Agreement between GPU Service, Inc. and American Energy Solutions, Inc., FERC Electric Tariff, Original Volume No. 1, Service Agreement No. 85.

GPU Energy requests that cancellation be effective September 18, 2000.

Comment date: August 8, 2000, in accordance with Standard Paragraph E at the end of this notice.

4. Jersey Central Power & Light Company, Metropolitan Edison Company and Pennsylvania Electric Company

[Docket No. ER00-3178-000]

Take notice that on July 18, 2000, Jersey Central Power & Light Company, Metropolitan Edison Company and Pennsylvania Electric Company (individually doing business as GPU Energy), tendered for filing a Notice of Cancellation of the Service Agreement between GPU Energy and CNG Retail Services Corporation (Peoples Plus), FERC Electric Tariff, Original Volume No. 1, Service Agreement No. 80.

GPU Energy requests that cancellation be effective September 18, 2000.

Comment date: August 8, 2000, in accordance with Standard Paragraph E at the end of this notice.

5. Jersey Central Power & Light Company, Metropolitan Edison Company and Pennsylvania Electric Company

[Docket No. ER00-3179-000]

Take notice that on July 18, 2000, Jersey Central Power & Light Company, Metropolitan Edison Company and Pennsylvania Electric Company (individually doing business as GPU Energy), tendered for filing a Notice of Cancellation of the Service Agreement between GPU Service Corporation and Energy Transfer Group, L. L. C., FERC Electric Tariff, Original Volume No. 1, Service Agreement No. 57.

GPU Energy requests that cancellation be effective September 18, 2000.

Comment date: August 8, 2000, in accordance with Standard Paragraph E at the end of this notice.

6. Jersey Central Power & Light Company, Metropolitan Edison Company and Pennsylvania Electric Company

[Docket No. ER00-3180-000]

Take notice that on July 18, 2000, Jersey Central Power & Light Company, Metropolitan Edison Company and Pennsylvania Electric Company (individually doing business as GPU Energy), tendered for filing a Notice of Cancellation of the Service Agreement between GPU Service Corporation and CNG Power Services Corporation, FERC Electric Tariff, Original Volume No. 1, Service Agreement No. 6.

GPU Energy requests that cancellation be effective September 18, 2000.

Comment date: August 8, 2000, in accordance with Standard Paragraph E at the end of this notice.

7. Jersey Central Power & Light Company, Metropolitan Edison Company and Pennsylvania Electric Company

[Docket No. ER00-3181-000]

Take notice that on July 18, 2000, Jersey Central Power & Light Company, Metropolitan Edison Company and Pennsylvania Electric Company (individually doing business as GPU Energy), tendered for filing a Notice of Cancellation of the Service Agreement between GPU Service Corporation and CMEX Energy, Inc., FERC Electric Tariff, Original Volume No. 1, Service Agreement No. 25.

GPU Energy requests that cancellation be effective September 18, 2000.

Comment date: August 8, 2000, in accordance with Standard Paragraph E at the end of this notice.

8. Jersey Central Power & Light Company, Metropolitan Edison Company and Pennsylvania Electric Company

[Docket No. ER00-3182-000]

Take notice that on July 18, 2000, Jersey Central Power & Light Company, Metropolitan Edison Company and Pennsylvania Electric Company (individually doing business as GPU Energy), tendered for filing a Notice of Cancellation of the Service Agreement between GPU Service Corporation and Engelhard Power Marketing, Inc., FERC Electric Tariff, Original Volume No. 1, Service Agreement No. 14.

GPU Energy requests that cancellation be effective September 18, 2000.

Comment date: August 8, 2000, in accordance with Standard Paragraph E at the end of this notice.

9. Cinergy Services, Inc.

[Docket No. ER00-3183-000]

Take notice that on July 18, 2000, Cinergy Services, Inc. (Cinergy), tendered for filing a Market-Based Service Agreement under Cinergy's Market-Based Power Sales Standard Tariff-MB (the Tariff) entered into between Cinergy and Quest Energy, L.L.C. (Quest).

Cinergy and Quest are requesting an effective date of June 19, 2000.

Comment date: August 8, 2000, in accordance with Standard Paragraph E at the end of this notice.

10. Public Service Company of Oklahoma

[Docket No. ER00-3184-000]

Take notice that on July 18, 2000, Public Service Company of Oklahoma (PSO), tendered for filing an Interconnection Agreement between PSO and Kiowa Power Partners, LLC (Kiowa).

PSO requests an effective date for the Interconnection Agreement of sixty (60) days from the date of the filing.

PSO states that a copy of the filing was served on Kiowa and the Oklahoma Corporation Commission.

Comment date: August 8, 2000, in accordance with Standard Paragraph E at the end of this notice.

11. Cinergy Services, Inc.

[Docket No. ER00-3185-000]

Take notice that on July 18, 2000, Cinergy Services, Inc. (Cinergy), tendered for filing a Service Agreement under Cinergy's Resale, Assignment or Transfer of Transmission Rights and Ancillary Service Rights Tariff (the Tariff) entered into between Cinergy and Aquila Energy Marketing Corporation (Aquila). This Service Agreement has been executed by both parties and is to replace the existing unexecuted Service Agreement.

Comment date: August 8, 2000, in accordance with Standard Paragraph E at the end of this notice.

12. Cargill-Alliant, LLC

[Docket No. ER00-3186-000]

Take notice that on July 18, 2000, Cargill-Alliant, LLC (CA), pursuant to Section 35.13 of the Commission's Regulations under the Federal Power Act, 18 CFR 35.13, and Section 205 of the Commission's Rules of Practice and Procedure, 18 CFR 385.205, tendered for filing revisions to its Rate Schedule FERC No. 1, the purpose of which is to permit CA to resell Firm Transmission Rights.

Comment date: August 8, 2000, in accordance with Standard Paragraph E at the end of this notice.

13. Arizona Public Service Company

[Docket No. ER00-3187-000]

That notice that on July 18, 2000, Arizona Public Service Company (APS) tendered for filing a revised Contract Demand Exhibit I to APS-FERC Rate Schedule No. 192 between APS and the City of Williams (Williams) for the Operating Year 2000.

Current rate levels are unaffected, revenue levels are unchanged from those currently on file with the Commission, and no other significant change in service to these or any other customer results from the revisions proposed herein. No new or modifications to existing facilities are required as a result of these revisions.

Copies of this filing have been served on the City of Williams and the Arizona Corporation Commission.

Comment date: August 8, 2000, in accordance with Standard Paragraph E at the end of this notice.

14. MI Energy, LLC

[Docket No. ER00-3190-000]

Take notice that on July 17, 2000, MI Energy, LLC, tendered for filing pursuant to Rules 205 and 207 of the Federal Energy Regulatory Commission's (Commission) Rules of Practice and Procedure 18 CFR 385.205 and 385.207, and Section 35.12 of the Commission's Regulations 18 CFR 35.12, an application for blanket authorization and certain waivers under various regulations of the Commission and for an order accepting its FERC Electric Rate Schedule No. 1 to be effective the earlier of 60 days from the date of filing or the date of a Commission order granting approval of this Rate Schedule.

MI Energy intends to engage in electric power and energy transactions as a marketer and a broker. In transactions where MI Energy purchases power, including capacity and related services from electric utilities, qualifying facilities and independent power producers, and resells such power to other purchasers, MI Energy will be functioning as a marketer. In MI Energy's marketing transactions, MI Energy does not take this title to the electric power and/or energy, MI Energy will be limited to the role of a broker and will charge a fee for its services. MI Energy is not in the business of producing nor does it contemplate acquiring title to any electric power transmission facilities.

Comment date: August 7, 2000, in accordance with Standard Paragraph E at the end of this notice.

15. Wisconsin Electric Power Company

[Docket No. ER00-3206-000]

Take notice that on July 14, 2000, Wisconsin Electric Power Company (Wisconsin Electric), tendered for filing an electric service agreement under its Market Rate Sales Tariff (FERC Electric Tariff, Original Volume No. 8) with Edison Mission Marketing & Trading, Inc.

Wisconsin Electric respectfully requests an effective date of July 14, 2000 to allow for economic transactions.

Copies of the filing have been served on Edison Mission Marketing & Trading, Inc., the Michigan Public Service Commission, and the Public Service Commission of Wisconsin.

Comment date: August 4, 2000, in accordance with Standard Paragraph E at the end of this notice.

16. California Power Exchange Corporation

[Docket No. ER00-3212-000]

Take notice that on July 18, 2000, the California Power Exchange Corporation (CalPX), tendered for filing tariff sheets in compliance with the Commission's June 23, 2000 order in this proceeding. The tariff sheets filed on July 18, 2000 incorporate the changes accepted by the Commission's June 23, 2000 order into the CalPX's First Revised Volume No. 2 of its FERC Electric Tariff. First Revised Volume No. 2 was filed in Docket No. ER00-2736-000 in compliance with the Commission's Order No. 614. The tariff sheets filed on July 18, 2000 do not propose any substantive changes in the tariff sheets accepted on June 23, 2000 but only adapt those tariff sheets to the format of the First Revised Volume No. 2.

Comment date: August 8, 2000, in accordance with Standard Paragraph E at the end of this notice.

17. California Power Exchange Corporation

[Docket No. ER00-3213-000]

Take notice that on July 18, 2000, the California Power Exchange Corporation (CalPX), on behalf of its CalPX Trading Services Division (CTS), tendered for filing revised tariff sheets in compliance with the Commission's June 23, 2000 order in this proceeding accepting Amendment No. 3. CTS has adapted Amendment No. 3 to the format and pagination of its Second Revised Rate Schedule FERC No. 1, filed in Docket No. ER00-2737-000 in compliance with the Commission's Order No. 614. The compliance filing made on July 18, 2000 in this proceeding does not make any substantive changes in Amendment No. 3 as it was accepted by the June 23, 2000 order. The compliance filing only adapts Amendment No. 3 to the format and pagination of the Second Revised Rate Schedule FERC No. 1.

Comment date: August 8, 2000, in accordance with Standard Paragraph E at the end of this notice.

18. Rumford Cogeneration Company Limited Partnership

[Docket No. QF86-291-003]

Take notice that on July 7, 2000 and July 19, 2000, Rumford Cogeneration Company Limited Partnership filed supplements to its May 16, 2000 Application for Commission Recertification as a Qualifying Cogeneration Facility. The supplements clarify certain information regarding the cogeneration facility and the proposed change in ownership of the facility.

Comment date: August 9, 2000, in accordance with Standard Paragraph E at the end of this notice.

19. Pedricktown Cogeneration Limited Partnership

[Docket No. QF87-407-005]

Take notice that on July 13, 2000 and July 19, 2000, Pedricktown Cogeneration Limited Partnership filed supplements to its May 16, 2000 Application for Commission Recertification as a Qualifying Cogeneration Facility. The supplements provide additional information regarding the cogeneration facility and the proposed change in ownership of the facility.

Comment date: August 9, 2000, in accordance with Standard Paragraph E at the end of this notice.

20. Gregory Power Partners, L.P.

[Docket No. QF99-32-002]

Take notice that on July 12, 2000 and July 19, 2000, Gregory Power Partners, L.P. filed supplements to its May 16, 2000 Application for Commission Recertification as a Qualifying Cogeneration Facility. The supplements provide additional information regarding the cogeneration facility and the proposed change in ownership of the facility.

Comment date: August 9, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19059 Filed 7-27-00; 8:45 am]

BILLING CODE 6717-01-P